DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Bureau of Economic Analysis (BEA), Commerce.

Title: Institutional Remittances to Foreign Countries.

Form Number(s): BE-40.

Agency Approval Number: 0608-0002.

Type of Request: Reinstatement, with change, of a previously approved collection for which approval has expired.

Burden: 2,100 hours.

Number of Respondents: 790.

Average Hours Per Response: 1.5 hours.

Needs and Uses: The Bureau of Economic Analysis (BEA) is responsible for the compilation of the U. S. international transactions accounts (ITA's). The ITA's provide a statistical summary of all U.S. international transactions and, as such, are one of the major statistical products of BEA. These accounts are used extensively by both government and private organizations for national and international economic policy formulation and for analytical purposes. The information collected in this survey is used to develop the “private remittances” portion of the ITA's. Without this information, an integral component of the ITA's would be omitted. In addition, the information from this survey is used by international organizations, such as the International Monetary Fund; various private organizations; and other government agencies, such as the Treasury Department and the U.S. Agency for International Development, to, among other things, analyze economic trends and support economic growth and prosperity.

Affected Public: Not-for-profit institutions.

Frequency: Quarterly and annually.

Respondents Obligation: Voluntary.

Legal Authority: Bretton Woods Agreement Act, Section 8, and E.O. 10033, as amended.

OMB Desk Officer: Paul Bugg, (202) 395-3093.

You may obtain copies of the above information collection proposal by calling or writing Diana Hynek, Departmental Paperwork Clearance Officer, Department of Commerce, Room 6025, 14th and Constitution Avenue, NW., Washington, DC 20230, or via the Internet at dHynek@doc.gov.

Send comments on the proposed information collection within 30 days of publication of this notice to Office of Management and Budget, O.I.R.A., Paperwork Reduction Project 0608-0002, Attention PRA Desk Officer for BEA, via the Internet at pbugg@omb.eop.gov, or by FAX at 202-395-7245.

Dated: May 26, 2005.
Madeleine Clayton,
Management Analyst, Office of the Chief Information Officer.

[FR Doc. 05-10891 Filed 5-31-05; 8:45 am]

BILLING CODE 3510-EA-P